DEPARTMENT OF THE INTERIOR

Bureau of Land Management

[LLAZC010.L51010000.ER0000.LVRWA09A2310.241A; AZA 32315]

Notice of Intent to Prepare an Environmental Impact Statement and Initiate Public Scoping for the Proposed Mohave County Wind Farm Project, Mohave County, AZ

AGENCY: Bureau of Land Management, Interior.

ACTION: Notice of intent.

SUMMARY: In compliance with the National Environmental Policy Act (NEPA) of 1976, as amended, the Bureau of Land Management (BLM) Kingman Field Office, Kingman, Arizona, intends to prepare an Environmental Impact Statement (EIS) for the Proposed Mohave County Wind Farm Project and by this notice is announcing the beginning of the scoping process to solicit public comments and identify issues.

DATES: This notice initiates the public scoping process for the EIS. Comments may be submitted in writing until January 4, 2010. The date(s) and location(s) of any scoping meetings will be announced at least 15 days in advance through local news media, newspapers, and the BLM-Arizona Web site at: http://www.blm.gov/az/st/en.html. In order to be included in the Draft EIS, all comments must be received prior to the close of the scoping period or 15 days after the last public meeting, whichever is later. We will provide additional opportunities for public participation upon publication of the Draft EIS.

ADDRESSES: You may submit comments related to the Proposed Mohave County Wind Farm Project, Mohave County, Arizona by any of the following methods:

• Web site: http://www.blm.gov/az/st/en.html.

• E-mail: KFO_WindEnergy@blm.gov.

• Fax: (928) 718-3761.

• Mail: Ruben Sanchez, Field Manager, BLM, Kingman Field Office, 2755 Mission Boulevard, Kingman, Arizona 86401.

Documents pertinent to this proposal may be examined at the Bureau of Land Management Kingman Field Office, Kingman, Arizona.

FOR FURTHER INFORMATION CONTACT: For further information and/or to have your name added to our mailing list, contact Jerry Crockford, BLM-contracted Project Manager at (505) 360-0473 or e-mail KFO_WindEnergy@blm.gov.

SUPPLEMENTARY INFORMATION: On November 1, 2002, the BLM received a right-of-way (ROW) application from BP Wind Energy North America (BPWE) for meteorological testing and monitoring for a wind energy project area. The BLM issued BPWE a ROW grant (AZA 32315) for a wind energy testing and monitoring project area of approximately 41,900 acres. Having gathered wind data for more than four years, BPWE is now moving forward to develop the project area, including an additional 3,520 acres, with a proposal to construct, operate, maintain, and decommission facilities and improvements associated with wind energy generation on the site, including wind turbine generators (WTG), access roads, operations and maintenance buildings, power lines, substations and other ancillary facilities and improvements, and an interconnection with one of two transmission lines which transect the project area. BPWE also proposes installing WTGs on approximately 4,360 acres of private lands adjacent to the ROW over which BPWE holds or anticipates holding wind development leases or easements. Zoning approval for development on private lands will be sought from Mohave County. The project area ROW includes approximately 45,420 acres of public land under jurisdiction of the BLM Kingman Field Office and potentially 4,360 acres of private land in the White Hills area approximately 40 miles northwest of Kingman, Arizona, approximately nine miles south of the Colorado River, and approximately 20 miles southeast of Hoover Dam. The project area is generally located within Townships 27 through 29 North, Ranges 18 and 19 West, and Townships 28 and 29 North, Range 20 West.

Total electric generation capacity of the project is anticipated to be up to 500 megawatts (MW). The project will consist of up to 335 WTGs and consist of construction in multiple phases.

Phase I is proposed to be located on the northwest portion of the BLM project area ROW, and may consist of up to 235 WTGs, access roads, and ancillary facilities. The WTGs are anticipated to range in size from 1.5 to 3.0 MW each. To the extent possible, existing roads would be used for access to the project, supplemented with internal access/service roads to each WTG. Ancillary facilities may include pad-mounted transformers, an underground 34.5 kilovolt (kV) electrical collection system between the turbines, either a 345 or 500 kV electrical substation, and either a 345 or 500 kV overhead transmission line from the substation to a new switchyard where the project would interconnect to one of the two major existing transmission lines in the area. Up to 10 WTGs could be installed on adjacent private lands during Phase I.

Subsequent phases are proposed to include comparable facilities with additional wind generation capacity of up to 150 MW on the balance of the area within the ROW and the private lands adjacent to the ROW area. A total of 50 to 100 WTGs may be installed on public or adjacent private lands in the subsequent phases of the project. These turbines also are anticipated to range in size from 1.5 to 3.0 MW.

A map of the proposed project area with the news release announcing the public meetings, is available on the BLM-Arizona Web site at: http://www.blm.gov/az/st/en.html.

The EIS will consider the impacts of the proposed action, alternatives, and a no action alternative.

The public is invited to submit comments and resource information and identify issues or concerns to be considered in the Draft EIS. Public comments will aid the BLM in identifying alternatives and mitigating measures and will help assure all relevant issues are considered in the EIS.

Preliminary issues that have been identified by the BLM for analysis include: access requirements; air quality during construction; cultural and historical resources; areas with high mineral potential; noise; sensitive soils and geology; recreation resources; socioeconomics; threatened and endangered species; visual resources; water resources; and wildlife habitats.

The BLM will use and coordinate the NEPA commenting process to satisfy the public involvement process for Section 106 of the National Historic Preservation Act (16 U.S.C. 470f) as provided for in 36 CFR 800.2(d)(3). Native American Tribal consultations will be conducted in accordance with policy and Tribal concerns and will be given due consideration, including impacts on Indian trust assets. Federal, State, and local agencies, as well as individuals, organizations, or tribes that may be interested or affected by the BLM's decision on this project are invited to participate in the scoping process and, if eligible, may request or be requested by the BLM to participate as a cooperating agency.

Before including your phone number, e-mail address, or other personal identifying information in your comment, you should be aware that your entire comment—including your personal identifying information—may be made publicly available at any time. While you can ask us in your comment to withhold your personal identifying information from public review, we cannot guarantee that we will be able to do so.

Authority: 43 CFR 2800.

James G. Kenna,
State Director.

[FR Doc. E9-27867 Filed 11-19-09; 8:45 am]

BILLING CODE 4310-32-P